DEPARTMENT OF THE TREASURY

Alcohol and Tobacco Tax and Trade Bureau

27 CFR Part 9

[Docket No. TTB-2023-0009; Notice No. 227]

RIN 1513-AC80

Proposed Renaming of the Mendocino Ridge Viticultural Area

AGENCY: Alcohol and Tobacco Tax and Trade Bureau, Treasury.

ACTION: Notice of proposed rulemaking.

SUMMARY: The Alcohol and Tobacco Tax and Trade Bureau (TTB) proposes to rename the established “Mendocino Ridge” American viticultural area (AVA) in Mendocino County, California, as “Mendocino Coast Ridge.” The proposed name change would not affect the size or boundary description of the AVA. TTB designates viticultural areas to allow vintners to better describe the origin of their wines and to allow consumers to better identify wines they may purchase. TTB invites comments on this proposal.

DATES: TTB must receive your comments on or before March 5, 2024.

ADDRESSES: You may electronically submit comments to TTB on this proposal using the comment form for this document as posted within Docket No. TTB-2023-0009 on the “Regulations.gov” website at https://www.regulations.gov. Within that docket, you also may view copies of this document, its supporting materials, and any comments TTB receives on this proposal. A direct link to that docket is available on the TTB website at https://www.ttb.gov/wine/notices-of-proposed-rulemaking under Notice No. 227. Alternatively, you may submit comments via postal mail to the Director, Regulations and Ruling Division, Alcohol and Tobacco Tax and Trade Bureau, 1310 G Street NW, Box 12, Washington, DC 20005. Please see the Public Participation section below for further information on the comments requested regarding this proposal and on the submission, confidentiality, and public disclosure of comments.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs), including changes to AVA names, and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to its geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon;

• If the proposed AVA is to be established within, or overlapping, an existing AVA, an explanation that both identifies the attributes of the proposed AVA that are consistent with the existing AVA and explains how the proposed AVA is sufficiently distinct from the existing AVA and therefore appropriate for separate recognition; and

• A detailed narrative description of the proposed AVA boundary based on USGS map markings.

If the petition seeks to change the name of an existing AVA, the petition must establish the suitability of the name change by providing the same types of name evidence required for the establishment of a new AVA.

Establishment of the Mendocino Ridge AVA

On April 7, 1997, TTB's predecessor agency, the Bureau of Alcohol, Tobacco, and Firearms (ATF), published Notice No. 848 in the Federal Register proposing the establishment of the Mendocino Ridge AVA (62 FR 16502). The notice was in response to a petition ATF received from Steve Alden of Alden Ranch Vineyards, on behalf of the Mendocino Ridge Quality Alliance, proposing the establishment of a new AVA to be called “Mendocino Ridge.”

ATF received no comments in response to that notice. On October 27, 1997, ATF published in T.D. ATF-392 in the Federal Register (62 FR 55512), establishing the Mendocino Ridge AVA as proposed. The Mendocino Ridge AVA is located within the established North Coast AVA (27 CFR 9.30). The AVA is located on the coastal ridgelines of Mendocino County, California. There are about 262,400 acres within the outer boundaries of the AVA; however, only elevations at or above 1,200 feet are included in the AVA, resulting in an AVA comprised of non-contiguous sites located on ridgetops above the fog line.

Petition To Rename the Mendocino Ridge AVA

TTB has received a petition from the Mendocino Ridge AVA Board of Directors, proposing to rename the Mendocino Ridge AVA as the “Mendocino Coast Ridge” AVA. The petition was signed by representatives of six vineyards and wineries within the AVA, including two people who signed the original petition to establish the Mendocino Ridge AVA. The petition states that at the time the Mendocino Ridge AVA was established, the focus was on the ridgetop locations of the vineyards. Over time, the vineyard owners realized that the coastal location is “equally a dominant defining feature of the AVA and should be part of the name * * *.” The petition claims that many producers in the AVA have “struggled with significant confusion in the marketplace and within our community about where exactly the Mendocino Ridge is * * * within Mendocino County.” The petition goes on to say, “Some assume that Mendocino Ridge indicates ridge vineyards inland where viticultural growing conditions are dramatically different” from the coastal region of the AVA. The petition also notes that “Mendocino Ridge” is the name of a massive underwater ridgeline in the Pacific Ocean.¹ Internet searches for “Mendocino Ridge” can produce results for the underwater ridge as well as for the AVA, which may cause confusion for people expecting to find results relating to wine. The petition states that the name “Mendocino Coast Ridge” would more precisely describe the geographic location and viticultural conditions of the AVA and alleviate consumer confusion.

¹ http://oceanexplorer.noaa.gov/explorations/14mendocino/welcome.html.

Name Evidence

According to the petition, the proposed name “Mendocino Coast Ridge” is appropriate for the AVA because the AVA exists entirely within the coastal climate zone of Mendocino County. The petition included a map showing the climate zones of Mendocino County, which includes four climate zones from west to east—maritime, coastal, transitional, and interior.² The Mendocino Ridge AVA boundary is superimposed on the map and is entirely in the “coastal” zone, while the more inland regions of the county are in the “transitional” and “interior” zones. The petition included a second map of Caltrans Pavement Climate Regions, which also places the region of the Mendocino Ridge AVA in a coastal climate zone, this one named the “North Coast” region.³ By contrast, the inland region of Mendocino County is in the “Low Mountain” region.

² See Exhibit C to the petition in the public docket at www.regulations.gov.

³ See Exhibit E to the petition in the public docket at www.regulations.gov.

The petition provided several examples showing the use of “coast ridge” or “coastal ridge” to describe the region of the AVA. A real estate listing from the town of Gualala, which is within the Mendocino Ridge AVA, describes a house as a “sunny Mendocino coast ridge-top estate.” ⁴ A second real estate listing for a property in Philo, California, notes that the property's vineyard is “located both in the Anderson Valley and the Mendocino Ridge (also known as the Mendocino Coast Ridge area) appellations.” ⁵ A vacation rental site lists another property “atop of southern Mendocino County's coastal ridge.” ⁶ The Port Arena Schools web page, which serves students within the Mendocino Ridge AVA, also describes the location of the town of Point Arena as on the “coastal ridge range.” ⁷

⁴ https://www.zillow.com/homes/45601-Seaside-School-Rd-Gualala,-CA-95445_rb/19217570_zpid/.

⁵ https://mendocountry.com/real-estate-listings/22400-philo-greenwood-rd.v.

⁶ https://www.vrbo.com/829531.

⁷ https://pointarenaschools.org.

Finally, the petition included examples from several wine publications that refer to the coastal location of the AVA and its vineyards as evidence that “coast” should be part of the AVA name. A 2021 article from International Wine Review notes that “Mendocino Ridge is a coastal appellation * * * with a series of ridges that run northwesterly along the coast.” ⁸ A 2018 article about the wines of Mendocino County states, “It is a large and sprawling region which can be arguably cleaved into two pieces: coastal and inland. Anderson Valley, Mendocino Ridge, Yorkville Highlands, and Cole Ranch belong to the former category, as they are very much defined by their relationship to the coast.” ⁹ Another article about wine regions in Mendocino County states, “The coastal appellations are Anderson Valley, Mendocino Ridge, and Yorkville Highlands * * *.” ¹⁰ A review of Witching Stick Winery's 2011 Gianoli Vineyard Pinot Noir wine notes, “The Gianoli Vineyard is located roughly 1800 feet up in the Mendocino Coastal Ridge * * *.” ¹¹ A description of a 2005 Zinfandel wine from Claudia Springs Winery notes, “The Mendocino Ridge Appellation is one of California's most unique—all vineyards must be in the Mendocino Coast ridge [sic] and at an elevation of at least 1,200 feet above sea level.” ¹² The website for Gianoli Ranch and Vineyard notes that the property is located “along the beautiful Mendocino Coast Ridge.” ¹³ Lastly, a 2010 article from the wine blog PinotFile states that in 1988, Kendall-Jackson Winery declared that “the Mendocino Coastal Ridge was one of the world's greatest Zinfandel regions.” ¹⁴

⁸ https://i-winereview.com/blog/index.php/2021/01/12/drew-winery-brilliant-winemaking-in-the-mendocino-ridge-and-anderson-valley.

⁹ https://www.guildsomm.com/public_content/features/articles/b/kelli-white/posts/mendocino-county.

¹⁰ https://www.vikingrange.com/consumer/products/print_friendly/tvl_print.jsp;jsessionid= cJNmb4t26Be-j0HUOFDIbw**.node1?id=prod7350195.

¹¹ https://chuckfuruya.wordpress.com/2013/05/02/2011-witching-stick-pinot-noirs.

¹² https://www.klwines.com/p/i?i=1034162&searchId=8b9c4e47-d24c-403a-a363-8df4a465b6b4&searchServiceName=klwines-prod-productsearch&searchRank=1.

¹³ https://gianoliranch.com/about/.

¹⁴ Princeofpinot.com/article/835.

TTB Determination

TTB concludes that the petition to rename the established Mendocino Ridge AVA as “Mendocino Coast Ridge” merits consideration and public comment, as invited in this document.

Boundary Description

The proposed renaming would not affect the boundary description of the Mendocino Ridge AVA as codified in the Code of Federal Regulations at 27 CFR 9.158.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

If TTB approves this proposed AVA name change, the new name, “Mendocino Coast Ridge,” will be recognized as the name of the AVA. This name change would affect vintners who currently use the “Mendocino Ridge” name as an appellation of origin because only the approved viticultural name may be so used. As a result, “Mendocino Ridge” would no longer be eligible for use as an AVA appellation of origin on wine labels.

Although “Mendocino Ridge” would no longer be an approved AVA name, TTB would still recognize it as a term of viticultural significance. With some exceptions, a brand name of viticultural significance may not be used unless the wine meets the appellation of origin requirements for the geographic area named. (27 CFR 4.39(i)(1)). “Mendocino Ridge” has been recognized as a term of viticultural significance under § 4.39(i)(3) of the TTB regulations (27 CFR 4.39(i)(3)) since the establishment of the Mendocino Ridge AVA. Changing the name of the AVA to add “Coast” to the AVA name would not affect the viticultural significance of the term “Mendocino Ridge.” As a term of viticultural significance, “Mendocino Ridge” could not appear as a brand name or elsewhere on a wine label unless the wine is also eligible to be labeled with the “Mendocino Coast Ridge” AVA appellation.

Transition Period for “Mendocino Ridge” Labels

If TTB adopts a final rule renaming this AVA, current holders of labels that were approved before the effective date of such a final rule that use the name “Mendocino Ridge” to designate a viticultural area would be permitted to use those approved labels during a 2-year transition period. At the end of the 2-year period, holders of approved “Mendocino Ridge” viticultural area wine labels would have to discontinue their use, as their certificates of label approval (COLAs) would be revoked by operation of the final rule. (See 27 CFR 13.51 and 13.72(a)(2).) The proposed regulatory text at the end of this document includes a statement to this effect as a new paragraph (d) in 27 CFR 9.158. TTB believes the 2-year period would provide label holders with adequate time to use up their supply of previously approved labels.

TTB notes that label holders who continue to use labels showing the “Mendocino Ridge” during the transition period would also be able to apply for COLAs with the “Mendocino Coast Ridge” name and use such labels, if approved.

Public Participation

Comments Invited

TTB invites comments from interested members of the public on the appropriateness of changing the name of the established Mendocino Ridge AVA to “Mendocino Coast Ridge,” and on the proposed 2-year transition period. TTB is particularly interested in receiving comments on any possible effects that this name change would have on label holders using the Mendocino Ridge appellation of origin. TTB is also interested in comments regarding any negative economic impact, which might result from the proposed name change, and whether a longer transition period would be more appropriate to reduce any negative impact.

Submitting Comments

You may submit comments on this proposal as an individual or on behalf of a business or other organization via the Regulations.gov website or via postal mail, as described in the ADDRESSES section of this document. Your comment must reference Notice No. 227 and must be submitted or postmarked by the closing date shown in the DATES section of this document. You may upload or include attachments with your comment. You also may submit a comment requesting a public hearing on this proposal. The TTB Administrator reserves the right to determine whether to hold a public hearing.

Confidentiality and Disclosure of Comments

All submitted comments and attachments are part of the rulemaking record and are subject to public disclosure. Do not enclose any material in your comments that you consider confidential or that is inappropriate for disclosure.

TTB will post, and you may view, copies of this document, the related petition, supporting materials, and any comments TTB receives about this proposal within the related Regulations.gov docket. In general, TTB will post comments as submitted, and it will not redact any identifying or contact information from the body of a comment or attachment.

Please contact TTB's Regulations and Rulings division by email using the web form available at https://www.ttb.gov/contact-rrd, or by telephone at 202-453-2265, if you have any questions regarding comments on this proposal or to request copies of this document, its supporting materials, or the comments received.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866, as amended. Therefore, no regulatory assessment is required.

Drafting Information

Karen A. Thornton of the Regulations and Rulings Division drafted this document.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Section 9.158 is amended by revising the section heading, paragraphs (a), (b) introductory text, and (c) introductory text, and by adding paragraph (d) to read as follows:

§ 9.158 Mendocino Coast Ridge.

(a) Name. The name of the viticultural area described in this section is “Mendocino Coast Ridge”. For purposes of part 4 of this chapter, “Mendocino Coast Ridge” and “Mendocino Ridge” are both terms of viticultural significance.

(b) Approved maps. The appropriate maps for determining the boundary of the Mendocino Coast Ridge viticultural area are four 1:62,500 scale U.S.G.S. topographical maps. They are titled:

* * * * *

(c) Boundary. The Mendocino Coast Ridge viticultural area is located within Mendocino County, California. Within the boundary description that follows, the viticultural area starts at the 1,200-foot elevation contour and encompasses all areas at or above the 1,200-foot elevation contour. The boundary of the Mendocino Coast Ridge viticultural area is as follows:

* * * * *

(d) Transition period. A label containing the words “Mendocino Ridge” as an appellation of origin approved prior to [the effective date of the final rule] may be used on wine bottled before [two years after the effective date of the final rule], if the wine conforms to the standards for use of the label set forth in § 4.25 or § 4.39(i) of this chapter in effect prior to [effective date of the final rule]. Existing certificates of label approval showing “Mendocino Ridge” as an appellation of origin are revoked by operation of this regulation on [two years after the effective date of the final rule].

Signed: December 19, 2023.
Mary G. Ryan,
Administrator.
Approved: December 20, 2023.
Thomas C. West, Jr.,
Deputy Assistant Secretary (Tax Policy).

[FR Doc. 2024-00057 Filed 1-4-24; 8:45 am]

BILLING CODE 4810-31-P